DEPARTMENT OF THE TREASURY

Submission for OMB Review; Comment Request

July 13, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 19, 2009 to be assured of consideration.

Financial Crimes Enforcement Network (FinCEN)

OMB Number: 1506-0001.

Type of Review: Extension.

Title: Suspicious Activity Report by Depository Institutions.

Description: FinCEN and the five Federal financial institutions supervisory agencies require banks, to report on a consolidated, uniform form, to a single location, reports of suspicious transactions.

Respondents: Businesses or other for-profits.

Estimated Total Reporting Burden: 1,344,594 hours.

Clearance Officer: Russell Stephenson (202) 354-6012, Department of the Treasury, Financial Crimes Enforcement Network, P.O. Box 39, Vienna, VA 22183.

OMB Reviewer: Shagufta Ahmed (202) 395-7873, Office of Management and Budget, Room 10235, New Executive Office Building, Washington, DC 20503.

Robert Dahl,
Treasury PRA Clearance Officer.

[FR Doc. E9-17168 Filed 7-17-09; 8:45 am]

BILLING CODE 4810-02-P